DEPARTMENT OF COMMERCE

[Docket No. 090220220-9295-01]

Privacy Act of 1974; System of Records

AGENCY: U.S. Census Bureau, Department of Commerce.

ACTION: Notice of Amendment, Privacy Act System of Records; COMMERCE/CENSUS-8, Statistical Administrative Records System.

SUMMARY: In accordance with the Privacy Act of 1974, as amended, Title 5 United States Code (U.S.C.) 552a(e)(4) and (11); and Office of Management and Budget (OMB) Circular A-130, Appendix I, “Federal Agency Responsibilities for Maintaining Records About Individuals,” the Department of Commerce is issuing notice of intent to amend the system of records under COMMERCE/CENSUS-8, Statistical Administrative Records System, to update administrative information concerning the purpose of the system of records, categories of individuals and records covered by the system, retrievability, and safeguards for the records in the system; in addition to minor administrative updates. Accordingly, the COMMERCE/CENSUS-8, Statistical Administrative Records System notice published in the Federal Register on January 20, 2000 (65 FR 3202), is amended as below. We invite public comment on the system amendment announced in this publication.

DATES: Comment Date: To be considered, written comments on the proposed amended system must be submitted on or before April 24, 2009.

Effective Date: Unless comments are received, the amended system of records will become effective as proposed on the date of publication of a subsequent notice in the Federal Register.

ADDRESSES: Please address comments to: Chief Privacy Officer, Privacy Office, Room HQ—8H168, U.S. Census Bureau, 4600 Silver Hill Road, Washington, DC 20233-3700.

SUPPLEMENTARY INFORMATION: The Statistical Administrative Records System (StARS) supports the Census Bureau's core mission of producing economic and demographic statistics in accordance with Title 13, United States Code (U.S.C.) 41, 61, 81, 91, 101, 102, 131, 141, 181, 182, 193 and Title 15, United States Code (U.S.C.) 1525. Further, to the maximum extent possible and consistent with the kind, timeliness, quality and scope of the statistics required, the Census Bureau is mandated by 13 U.S.C. 6 to acquire information from public and private sources to ensure the efficient and economical conduct of its censuses and surveys by using that information instead of conducting direct inquiries. To provide the information on which the American public, businesses, policymakers, and analysts rely, the StARS organizes data from a variety of sources, thereby eliminating the need to collect information again. Avoiding new collections precludes duplication, enhances efficiency, significantly reduces the burden on respondents, and lowers the cost to taxpayers. Doing so also increases the quality, timeliness, and relevance of the information available to those making policy decisions that impact the public and private sectors. The information that StARS organizes comes from federal and state administrative record systems, private entities, current demographic and economic surveys, quinquennial Economic Censuses, and decennial Censuses of Population and Housing. The amended system also expands protections on access, storage, and use of personally identifiable data. The StARS is a statistical information system whose uses will not directly affect any individual. In order to protect personally identifiable information, the StARS is logically organized into three components. The first component houses data sets with personal identifiers (Social Security Numbers and names) in a secure environment, with access restricted to fewer than ten sworn Census Bureau staff. The sole purpose of this component is to provide a controlled environment to remove and replace the identifying information (names and Social Security Numbers) contained in source files with unique non-identifying codes. No data containing Social Security Numbers are released from this environment. The second component consists of data sets that contain the unique non-identifying codes, with the personal identifiers removed. Records from them are extracted or combined as needed, based on the unique non-identifying codes, to prepare numerous statistical products. These extracts are only provided in conjunction with approved Census Bureau projects and programs. Each proposed use is reviewed by an in-house Project Review Board to ensure the data are used only for authorized purposes. Furthermore, individuals cannot access the extracts until their managers have assured that they have taken all required security and data stewardship training. The third component of StARS houses two types of data sets that contain the unique non-identifying codes that replaced the Social Security Numbers, but retain some name information. The first type contains business information including the names of businesses, some of which are the same as the name of the owner—“John Doe Consulting,” for example. The second type is used solely for the purpose of providing contact information for respondents involved in the Census Bureau's surveys and censuses. The same safeguards on the use of these data sets as described for the second component apply here as well.

COMMERCE/CENSUS-8

SYSTEM NAME:

Delete and replace with the following language:

“Statistical Administrative Records System.”

SECURITY CLASSIFICATION:

None.

SYSTEM LOCATION:

Delete and replace with the following language:

“Bowie Computer Center, Bureau of the Census, 17101 Melford Blvd., Bowie, Maryland 20715.”

CATEGORIES OF INDIVIDUALS COVERED BY THE SYSTEM:

Delete and replace with the following language:

“This system covers the population of the United States. In order to approximate coverage of the population in support of its statistical programs, the Census Bureau will acquire administrative record files from the Departments of Agriculture, Education, Health and Human Services, Homeland Security, Housing and Urban Development, Labor, Treasury, Veterans Affairs and from the Office of Personnel Management, the Social Security Administration, the Selective Service System, and the U.S. Postal Service. Comparable data may also be sought from state agencies and commercial sources.”

CATEGORIES OF RECORDS IN THE SYSTEM:

Delete and replace with the following language:

“The first category contains records with personal identifiers (names and Social Security Numbers), with access restricted to fewer than ten sworn Census Bureau staff. The records are maintained in a secure restricted-access environment. They are used solely during a brief period while the personal identifiers are replaced with unique non-identifying codes. The second category contains records that are maintained on unique data sets that are extracted or combined on an as-needed basis using the unique non-identifying codes but with the original identifiers removed. These records may contain: Demographic information—date of birth, sex, race, ethnicity, household and family characteristics, education, marital status, tribal affiliation, and veteran's status; Geographical information—address and geographic codes; Mortality information—cause of death and hospitalization information; Health information—type of provider, services provided, cost of services, and quality indicators; Economic information—housing characteristics, income, occupation, employment and unemployment information, health insurance coverage, federal program participation, assets, and wealth. The third category contains two types of records that are maintained on unique data sets that are extracted or combined on an as-needed basis using the unique non-identifying codes but with some name information retained. One type of records contains: Business information—business name, revenues, number of employees, and industry codes in support of economic statistical products. The other type contains: Respondent contact information—name, address, telephone number, age, and sex in support of survey and census data collection efforts.”

AUTHORITIES FOR MAINTENANCE OF THE SYSTEM:

Delete and replace with the following language:

“13 U.S.C. 6.”

PURPOSE(S):

Delete and replace with the following language:

“The purpose of this system is to centralize and control the use of personally identifiable information by providing a secure repository that supports statistical operations through the removal of personal identifiers (Social Security Numbers and names), prior to delivery to other Census Bureau operating units. By combining current demographic and economic survey and census data with administrative record data from other agencies, and data procured from commercial sources on an as-needed basis, the Census Bureau will improve the quality and usefulness of its statistics and reduce the respondent burden associated with direct data collection efforts. The system will also be used to plan, evaluate, and enhance survey operations; improve questionnaire design and selected survey data products; and produce research and statistical products such as estimates of the demographic, social, and economic characteristics of the population.”

ROUTINE USES OF RECORDS MAINTAINED IN THE SYSTEM, INCLUDING CATEGORIES OF USERS AND THE PURPOSES OF SUCH USES:

Delete and replace with the following language:

“None. The StARS will be used only for statistical purposes. No disclosures which permit the identification of individual respondents, and no determinations affecting individual respondents, will be made.”

Add the following language:

DISCLOSURE TO CONSUMER REPORTING AGENCIES:

“None.”

POLICIES AND PRACTICES FOR STORING, RETRIEVING, ACCESSING, RETAINING, AND DISPOSING OF RECORDS IN THE SYSTEM:

STORAGE:

Delete and replace with the following language:

“Records will be stored in a secure computerized system and on magnetic media; output data will be either electronic or paper copies. Source data sets containing personal identifiers will be maintained in a secure restricted-access environment.”

RETRIEVABILITY:

Delete and replace with the following language:

“Staff producing statistical products will have access only to data sets from which Social Security Numbers have been deleted and replaced by unique non-identifying codes internal to the Census Bureau. Fewer than ten sworn Census Bureau staff, who work within a secure restricted-access environment, will be permitted to retrieve records containing Social Security Numbers.”

SAFEGUARDS:

Delete and replace with the following language:

“Each project must be approved by an in-house Project Review Board to ensure that data relating to the project will be used only for authorized purposes. All uses of the data will be only for statistical purposes, which by definition means that uses will not directly affect any individual. Once the Project Review Board has approved a project, construction of statistical extracts with information from one or more of the source data sets may occur. Extract data sets will be based on unique non-identifying codes and will only be released to designated sworn Census Bureau staff with a need-to-know. The data in the extracts for these projects will not be made publicly available. Any publications based on the StARS will be cleared for release under the direction of the Census Bureau's Disclosure Review Board, which will confirm that all the required disclosure protection procedures have been implemented. No information will be released that identifies any individual. All employees are subject to the restrictions, penalties, and prohibitions of 13 U.S.C. 9 and 214; 5 U.S.C. 552a(b)(4); 18 U.S.C. 1905; 26 U.S.C. 7213; and 42 U.S.C. 1306. When confidentiality or penalty provisions differ, the most stringent provisions apply to protect the data. Employees are regularly advised of the regulations issued pursuant to 13 U.S.C. 9 and 214 and other relevant statutes governing confidentiality of the data. For example, 13 U.S.C. 214 provides for penalties of up to five years in prison, and applicable criminal statutes could impose fines up to $250,000, for releases of confidential data. The restricted-access environment has been established to limit the number of Census Bureau employees with direct access to the personal identifiers in this system, so as to protect the confidentiality of the data and to prevent unauthorized use or access. These safeguards provide a level and scope of security that meet the level and scope of security established by the Office of Management and Budget in OMB Circular No. A-130, Appendix III, Security of Federal Automated Information Resources. Furthermore, the use of unsecured telecommunications to transmit individually identifiable information is prohibited.”

RETENTION AND DISPOSAL:

Delete and replace with the following language:

“Records are to be retained in accordance with the unit's Records Control Schedule, which is based on separate agreements with each source entity. Retention is not to exceed 10 years, unless, by agreement with the source entity, it is determined that a longer period is necessary for statistical purposes. At the end of the retention period or upon demand, all original data sets, extracts, and paper copies, from each source entity will be returned or destroyed as mandated by the agreements.”

SYSTEM MANAGER AND ADDRESS:

Delete and replace with the following language:

“Associate Director for Demographic Programs, U.S. Census Bureau, 4600 Silver Hill Road, Washington, DC 20233-8000.”

NOTIFICATION PROCEDURE:

Delete and replace with the following language:

“For the Census Bureau's records, information may be obtained from: Assistant Division Chief for Data Management, Data Integration Division, Demographic Directorate, U.S. Census Bureau, 4600 Silver Hill Road, Washington, DC 20233-8100.”

Add the following information:

RECORD ACCESS PROCEDURES:

See “Record Notification Procedure” above.

Add the following information:

CONTESTING RECORD PROCEDURES:

“None.”

RECORD SOURCE CATEGORIES:

Delete and replace with the following language:

“Individuals covered by selected administrative record systems and Census Bureau censuses and surveys.”

EXEMPTIONS CLAIMED FOR SYSTEM:

Delete and replace with the following language:

“Pursuant to 5 U.S.C. 552a(k)(4), this system of records is exempted from the notification, access, and contest requirements of the agency procedures (under 5 U.S.C. 552a(c)(3), (d), (e)(1), (e)(4)(G), (H), and (I), and (f)). This exemption is applicable as the data are maintained by the Bureau of the Census solely as statistical records, as required under Title 13 U.S.C., and are not used in whole or in part in making any determination about an identifiable individual. This exemption is made in accordance with agency rules published in the rules section of this Federal Register.”

Dated: March 19, 2009.
Brenda Dolan,
Department of Commerce, Freedom of Information/Privacy Act Officer.

[FR Doc. E9-6557 Filed 3-24-09; 8:45 am]

BILLING CODE 3510-07-P